Proclamation 7590 of September 4, 2002

Patriot Day, 2002

By the President of the United States of America

A Proclamation

On this first observance of Patriot Day, we remember and honor those who perished in the terrorist attacks of September 11, 2001. We will not forget the events of that terrible morning nor will we forget how Americans responded in New York City, at the Pentagon, and in the skies over Pennsylvania—with heroism and selflessness; with compassion and courage; and with prayer and hope. We will always remember our collective obligation to ensure that justice is done, that freedom prevails, and that the principles upon which our Nation was founded endure.

Inspired by the heroic sacrifices of our firefighters, rescue and law enforcement personnel, military service members, and other citizens, our Nation found unity, focus, and strength. We found healing in the national outpouring of compassion for those lost, as tens of millions of Americans participated in moments of silence, candlelight vigils, and religious services. From the tragedy of September 11 emerged a stronger Nation, renewed by a spirit of national pride and a true love of country.

We are a people dedicated to the triumph of freedom and democracy over evil and tyranny. The heroic stories of the first responders who gave their all to save others strengthened our resolve. And our Armed Forces have pursued the war against terrorism in Afghanistan and elsewhere with valor and skill. Together with our coalition partners, they have achieved success.

Americans also have fought back against terror by choosing to overcome evil with good. By loving their neighbors as they would like to be loved, countless citizens have answered the call to help others. They have contributed to relief efforts, improved homeland security in their communities, and volunteered their time to aid those in need. This spirit of service continues to grow as thousands have joined the newly established USA Freedom Corps, committing themselves to changing America one heart at a time through the momentum of millions of acts of decency and kindness.

Those whom we lost last September 11 will forever hold a cherished place in our hearts and in the history of our Nation. As we mark the first anniversary of that tragic day, we remember their sacrifice; and we commit ourselves to honoring their memory by pursuing peace and justice in the world and security at home. By a joint resolution approved December 18, 2001 (Public Law 107-89), the Congress has authorized and requested the President to designate September 11 of each year as “Patriot Day.”

NOW, THEREFORE, I, GEORGE W. BUSH, President of the United States of America, do hereby proclaim September 11, 2002, as Patriot Day. I call upon the people of the United States to observe this day with appropriate ceremonies and activities, including remembrance services and candlelight vigils. I also call upon the Governors of the United States and the Commonwealth of Puerto Rico, as well as appropriate officials of all units of government, to direct that the flag be flown at half-staff on Patriot Day. Further, I encourage all Americans to display the flag at half-staff from their homes on that day and to observe a moment of silence beginning at 8:46 a.m. eastern daylight time, or another appropriate commemorative time, to honor the innocent victims who lost their lives as a result of the terrorist attacks of September 11, 2001.

IN WITNESS WHEREOF, I have hereunto set my hand this fourth day of September, in the year of our Lord two thousand two, and of the Independence of the United States of America the two hundred and twenty-seventh.

B

[FR Doc. 02-23007

Filed 9-6-02; 8:45 am]

Billing code 3195-01-P